FEDERAL RESERVE SYSTEM

Change in Bank Control Notices; Acquisitions of Shares of Banks or Bank Holding Companies

The notificants listed below have applied under the Change in Bank Control Act (12 U.S.C. 1817(j)) and § 225.41 of the Board's Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 6, 2000.

A. Federal Reserve Bank of Chicago (Phillip Jackson, Applications Officer) 230 South LaSalle Street, Chicago, Illinois 60690-1414:

1. James G. Fitzgerald, Barrington Hills, Illinois; and Jane M. Fitzgerald; Andrew James Fitzgerald Irrevocable Trust, James G. Fitzgerald as trustee; Timothy Edward Fitzgerald Irrevocable Trust, James G. Fitzgerald as trustee; Gerald F. Fitzgerald Jr.; Thomas Gosselin Fitzgerald, Jr., Trust, Thomas G. Fitzgerald as trustee; Lauren Webb Fitzgerald Trust, Thomas G. Fitzgerald as trustee; Julie Schauer, all of Inverness, Illinois, and Gerald F. Fitzgerald, Palatine, Illinois; to acquire shares of Southern Wisconsin Bancshares Corp., Mineral Point, Wisconsin, and thereby indirectly acquire Farmers Savings Bank, Mineral Point, Wisconsin.

Board of Governors of the Federal Reserve System, September 18, 2000.
Robert deV. Frierson,
Associate Secretary of the Board.

[FR Doc. 00-24360 Filed 9-21-00; 8:45 am]

BILLING CODE 6210-01-P